DEPARTMENT OF DEFENSE

Department of the Army, Corps of Engineers

Record of Decision for the Trinity Parkway From IH-35/SH-183 to US-175/SH-310 Environmental Impact Statement, Dallas County, TX

AGENCY: Department of the Army, U.S. Army Corps of Engineers, DoD.

ACTION: Record of Decision.

SUMMARY: The U.S. Army Corps of Engineers (USACE), Fort Worth District, is issuing this notice to advise Federal, state, and local governmental agencies and the public that USACE has signed a Record of Decision (ROD) for the Trinity Parkway from Interstate Highway (IH) 35/State Highway (SH) 183 to United States (US) 175/SH 310 Environmental Impact Statement, Dallas County, TX. This ROD was rendered to declare that a USACE action, a Section 408 Permission of the City of Dallas to alter the Dallas Floodway, is in the public interest.

DATES: The USACE Fort Worth District Commander, Colonel Calvin C. Hudson II, signed the ROD and Section 408 Permission on October 21, 2016.

ADDRESSES: U.S. Army Corps of Engineers, Regional Planning and Environmental Center, CESWF-PEC-CI (Attn: Ms. Marcia Hackett), 819 Taylor Street, Room 3A12, Fort Worth, TX 76102.

FOR FURTHER INFORMATION CONTACT: Marcia Hackett, Senior Environmental Planner, Regional Planning and Environmental Center. Email address: marcia.r.hackett@usace.army.mil.

SUPPLEMENTARY INFORMATION: The City of Dallas has requested permission to construct the Trinity Parkway in Dallas County, Texas. The Parkway will constitute an alternation of the existing Dallas Floodway, a USACE federally authorized civil works project that requires Title 33 United States Code, Section 408 (Section 408) compliance. The proposed Parkway consists of a multi-lane transportation project constructed on earthen embankments generally aligned along the East Levee within the Dallas Floodway. The alterations were analyzed and disclosed in the Final Impact Statement dated March 2014, which was prepared by the Federal Highway Administration, as the lead agency; the Texas Department of Transportation (TxDOT); and the North Texas Tollway Authority (NTTA). Those agencies in addition to the City of Dallas are the project's sponsors. This ROD addresses the USACE Section 408 Permission.

Douglas C. Sims,
RPA Chief, Environmental Compliance Branch, Regional Planning and Environmental Center.

[FR Doc. 2016-28844 Filed 11-30-16; 8:45 am]

BILLING CODE 3720-58-P